DEPARTMENT OF THE INTERIOR

Bureau of Indian Affairs

[167A2100DD/AAKC001030/A0A501010.999900 253G]

Proclaiming Certain Lands as Reservation for the Bay Mills Indian Community

AGENCY: Bureau of Indian Affairs, Interior.

ACTION: Notice.

SUMMARY: This notice informs the public that the Assistant Secretary—Indian Affairs proclaimed approximately 2.00 acres, more or less, an addition to the reservation of the Bay Mills Indian Community of Michigan on March 31, 2016.

FOR FURTHER INFORMATION CONTACT: Ms. Sharlene Round Face, Bureau of Indian Affairs, Division of Real Estate Services, MS-4642-MIB, 1849 C Street NW., Washington, DC 20240, telephone: (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 467), for the land described below. The land was proclaimed to be part of the Bay Mills Indian Reservation of the Bay Mills Indian Community of Michigan, County of Chippewa and State of Michigan.

Bay Mills Indian Reservation

Legal description containing 2.00 acres, more or less.

A parcel of land located in the Northwest ¼ of the Northeast ¼ of Section 19, Township 47 North, Range 3 West, Bay Mills Township, Chippewa County, Michigan, more particularly described as commencing at the North ¼ Corner of said Section 19; thence S87°32′28″ E. along the North line of said Section 19 a distance of 200.00 feet to the POINT OF BEGINNING; thence continuing S87°32′28″ E. along said North line a distance of 255.10 feet; thence S02°27′32″ W. a distance of 341.51 feet; thence N87°32′28″ W. a distance of 255.10 feet; thence N02°27′32″ E. a distance of 341.51 feet to the POINT OF BEGINNING; containing 2.00 acres, more or less.

The above-described lands contain a total of 2.00 acres, more or less, which are subject to all valid rights, reservations, rights-of-way, and easements of record.

This proclamation does not affect title to the land described above, nor does it affect any valid existing easements for public roads, highways, public utilities, railroads, and pipelines or any other valid easements of rights-of-way or reservations of record.

Dated: May 23, 2016.
Lawrence S. Roberts,
Acting Assistant Secretary—Indian Affairs.

[FR Doc. 2016-14028 Filed 6-13-16; 8:45 am]

BILLING CODE 4337-15-P